DEPARTMENT OF TRANSPORTATION

Federal Aviation Administration

14 CFR Part 39

[Docket No. FAA-2011-1168; Directorate Identifier 2010-NM-239-AD; Amendment 39-17255; AD 2012-22-17]

RIN 2120-AA64

Airworthiness Directives; The Boeing Company Airplanes

AGENCY: Federal Aviation Administration (FAA), DOT.

ACTION: Final rule.

SUMMARY: We are adopting a new airworthiness directive (AD) for certain The Boeing Company Model 767-200 and -300 series airplanes. This AD was prompted by reports of cracks in the inner chords at both left-side and right-side stations 859.5, 883.5, and 903.5. This AD requires repetitive inspections of the frame inner chord transition radius for cracks, and related investigative and corrective actions if necessary. We are issuing this AD to prevent large cracks in the frames and adjacent structure that can adversely affect the structural integrity of the airplane.

DATES: This AD is effective December 26, 2012.

The Director of the Federal Register approved the incorporation by reference of a certain publication listed in the AD as of December 26, 2012.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office (ACO), 1601 Lind Avenue SW., Renton, WA 98057-3356; phone: 425-917-6577; fax: 425-917-6590; email: Berhane.Alazar@faa.gov.

SUPPLEMENTARY INFORMATION:

Discussion

We issued a notice of proposed rulemaking (NPRM) to amend 14 CFR part 39 to include an AD that would apply to the specified products. That NPRM published in the Federal Register on November 9, 2011 (76 FR 69685). That NPRM proposed to require repetitive inspections of the frame inner chord transition radius for cracks, and related investigative and corrective actions if necessary.

Comments

We gave the public the opportunity to participate in developing this AD. The following presents the comments received on the proposal (76 FR 69685, November 9, 2011) and the FAA's response to each comment.

Statement of Intent To Comply With the NPRM (76 FR 69685, November 9, 2011)

American Airlines stated that it will incorporate the NPRM (76 FR 69685, November 9, 2011) requirements into its maintenance program and that any corrective actions will be performed at a time that is appropriate based on the compliance thresholds in the NPRM.

Request To Revise Note 1 to Paragraph (g) of the NPRM (76 FR 69685, November 9, 2011)

Boeing requested that we revise the wording of Note 1 to paragraph (g) of the NPRM (76 FR 69685, November 9, 2011) to clarify that structural inspections of fuselage structure are mandated by AD 2003-18-10, Amendment 39-13301 (68 FR 53503, September 11, 2003). (AD 2003-18-10 requires revising the airworthiness limitations section of the maintenance planning data document to incorporate certain inspections and compliance times to detect fatigue cracking of principal structural elements.) Boeing stated that an alteration of these structural inspections will be required for repair(s) done in accordance with Boeing Service Bulletin 767-53A0209, Revision 1, dated July 27, 2011. That service bulletin contains post-repair inspections that already provide alternative method of compliance (AMOC) coverage for the requirements of AD 2003-18-10.

We disagree with the commenter's request. Paragraph F., “Approval,” of Boeing Service Bulletin 767-53A0209, Revision 1, dated July 27, 2011, already contains approval of the inspections as an AMOC for the requirements of the pertinent paragraphs of AD 2003-18-10, Amendment 39-13301 (68 FR 53503, September 11, 2003). We have not changed the final rule in this regard.

Request To Exclude Certain Inspections

All Nippon Airways (ANA) requested that we include a statement in the proposed requirements of the NPRM (76 FR 69685, November 9, 2011) to give credit for the inspection at the locations where FAA-approved repairs have been accomplished for the subject cracking of the inner chords prior to the release of Boeing Service Bulletin 767-53A0209, Revision 1, dated July 27, 2011. ANA stated that Boeing Service Bulletin 767-53A0209, Revision 1, dated July 27, 2011, does not describe how operators treat the previously FAA-approved repairs and that a credit statement was included in the service information referenced in AD 2011-02-06, Amendment 39-16579 (76 FR 4224, January 25, 2011). ANA stated that it would have to obtain approvals for all previously FAA-approved repairs as AMOCs to the new AD; and considered this a huge burden that increases costs and work-hours.

We disagree with the commenter's request. The structural issues in the identified unsafe condition for this AD are significantly different and more complex than those addressed by AD 2011-02-06, Amendment 39-16579 (76 FR 4224, January 25, 2011). We are unable to approve AMOCs for repairs that may have had previous FAA approvals without information as to how they mitigate the unsafe condition addressed in this AD. Under the provisions of paragraph (j) of this AD, we will consider requests for approval of an AMOC for previous repairs if sufficient data are submitted to substantiate that the repairs would provide an acceptable level of safety for the unsafe condition addressed in this AD. We have not changed the final rule in this regard.

Request for Global Terminating Action and Delay of AD

Delta Airlines (Delta) requested that we revise the NPRM (76 FR 69685, November 9, 2011) to add the statement “FAA approved repairs for cracking at the subject locations prior to the release of this service bulletin (Boeing Service Bulletin 767-53A0209, Revision 1, dated July 27, 2011), constitute terminating action for the inspections defined in this AD.” Delta stated that, if previously installed FAA-approved repairs are not approved as terminating action, then it would request that the AD effective date be three months after the release of the AD, rather than two or three weeks after the release of the AD. Delta asserted that this would allow additional time for Boeing and Aviation Partners Boeing to review and provide AMOC information for the large volume of previous repairs associated with this area.

We disagree to add approval of a global terminating action for previously approved repairs. We are unable to approve a global terminating action for repairs that might have had previous FAA approvals without information as to how each repair mitigates the identified unsafe condition addressed in this AD. In addition, requirements that must be met for approvals of AMOC requests exceed those for repair approvals. We also disagree to delay the effective date of this AD. We considered that delaying issuance of this AD is inappropriate in light of the identified unsafe condition. We have not changed the final rule in this regard.

Clarification of Effect of Winglet Installation

We have added new paragraph (c)(2) to this AD, which states that Supplemental Type Certificate (STC) ST01920SE (http://rgl.faa.gov/Regulatory_and_Guidance_Library/rgstc.nsf/0/082838ee177dbf62862576a4005cdfc0/$FILE/ST01920SE.pdf) does not affect the ability to accomplish the actions required by this AD. Therefore, for airplanes on which STC ST01920SE is installed, a “change in product” AMOC approval request is not necessary to comply with the requirements of 14 CFR 39.17. For all other AMOC requests, the operator must request approval for an AMOC in accordance with the procedures specified in paragraph (j) of this AD.

Change to Paragraph (j)(3) of This AD

We have removed the reference to Federal Aviation Regulations 14 CFR 25.571, Amendment 45 from this AD that was specified in paragraph (j)(3) of the NPRM (76 FR 69685, November 9, 2011). Removing this reference will neither increase the economic burden on any operator nor increase the scope of this AD.

Conclusion

We reviewed the relevant data, considered the comments received, and determined that air safety and the public interest require adopting the AD with the changes described previously—and minor editorial changes. We have determined that these changes:

• Are consistent with the intent that was proposed in the NPRM (76 FR 69685, November 9, 2011), for correcting the unsafe condition; and

• Do not add any additional burden upon the public than was already proposed in the NPRM (76 FR 69685, November 9, 2011).

Costs of Compliance

We estimate that this AD will affect 325 airplanes of U.S. registry.

We estimate the following costs to comply with this AD:

Estimated Costs
Action | Labor cost | Parts cost | Cost per product | Cost on U.S. operators
Detailed or HFEC inspection | 23 or 26 work-hours × $85 per hour = $1,955 or 2,210 per inspection cycle | $0 | $1,955 or $2,210 per inspection cycle | Up to $718,250 per inspection cycle.

We estimate the following costs to do any necessary repairs that would be required based on the results of the inspection. We have no way of determining the number of aircraft that might need these repairs.

On-Condition Costs
Action | Labor cost | Parts cost | Cost per product
Repair | 24 work-hours × $85 per hour = $2,040 | $383 to $8,327 per frame | $2,423 to $10,367 per frame.
On-condition detailed and HFEC inspections and measurement | 7 work-hours × $85 per hour = $595 per frame | $0 | $595

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-22-17 The Boeing Company: Amendment 39-17255; Docket No. FAA-2011-1168; Directorate Identifier 2010-NM-239-AD.

(a) Effective Date

This AD is effective December 26, 2012.

(b) Affected ADs

None.

(c) Applicability

(1) This AD applies to The Boeing Company Model 767-200 and -300 series airplanes, certificated in any category, as identified in Boeing Service Bulletin 767-53A0209, Revision 1, dated July 27, 2011.

(2) Supplemental Type Certificate (STC) ST01920SE (http://rgl.faa.gov/Regulatory_and_Guidance_Library/rgstc.nsf/0/082838ee177dbf62862576a4005cdfc0/$FILE/ST01920SE.pdf) does not affect the ability to accomplish the actions required by this AD. Therefore, for airplanes on which STC ST01920SE is installed, a “change in product” alternative method of compliance (AMOC) approval request is not necessary to comply with the requirements of 14 CFR 39.17. For all other AMOC requests, the operator must request approval for an AMOC in accordance with the procedures specified in paragraph (j) of this AD.

(d) Subject

Joint Aircraft System Component (JASC)/Air Transport Association (ATA) of America Code 53, Fuselage.

(e) Unsafe Condition

This AD was prompted by reports of cracks in the inner chords at both left-side and right-side stations 859.5, 883.5, and 903.5. We are issuing this AD to prevent large cracks in the frames and adjacent structure that can adversely affect the structural integrity of the airplane.

(f) Compliance

Comply with this AD within the compliance times specified, unless already done.

(g) Repetitive Inspections, Related Investigative Actions, and Corrective Actions

Except as required by paragraph (h)(2) of this AD, at the times specified in paragraph 1.E., “Compliance,” of Boeing Service Bulletin 767-53A0209, Revision 1, dated July 27, 2011: Perform a detailed inspection or a surface high frequency eddy current (HFEC) inspection for cracking in the frame inner chord transition radius at stations 859.5, 883.5, and 903.5, as applicable, left buttock line and right buttock line 89, below water line 200; and do all applicable related investigative and corrective actions; in accordance with the Accomplishment Instructions of Boeing Service Bulletin 767-53A0209, Revision 1, dated July 27, 2011; except as required by paragraph (h)(1) of this AD. Do all applicable related investigative and corrective actions before further flight. If no cracking is found, repeat the inspections thereafter at the applicable interval specified in paragraph 1.E., “Compliance,” of Boeing Service Bulletin 767-53A0209, Revision 1, dated July 27, 2011.

Note 1 to paragraph (g) of this AD: The post-repair inspections specified in Tables 2, 4, 6, and 8 of paragraph 1.E., “Compliance,” of Boeing Service Bulletin 767-53A0209, Revision 1, dated July 27, 2011, may be used in support of compliance with paragraph (c)(2) of Section 121.1109 or 129.109 of the Federal Aviation Regulations (14 CFR 121.1109(c)(2) or 14 CFR 129.109(c)(2)).

(h) Exceptions to the Service Information

(1) If any cracking is found during any inspection required by this AD, and Boeing Service Bulletin 767-53A0209, Revision 1, dated July 27, 2011, specifies to contact Boeing for appropriate action: Before further flight, repair the cracking using a method approved in accordance with the procedures specified in paragraph (j) of this AD.

(2) Where Boeing Service Bulletin 767-53A0209, Revision 1, dated July 27, 2011, specifies a compliance time after the date on that service bulletin, this AD requires compliance within the specified compliance time after the effective date of this AD.

(i) No Reporting Required

Although Boeing Service Bulletin 767-53A0209, Revision 1, dated July 27, 2011, specifies to submit certain information to the manufacturer, this AD does not include that requirement.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(k) Related Information

For more information about this AD, contact Berhane Alazar, Aerospace Engineer, Airframe Branch, ANM-120S, FAA, ACO, 1601 Lind Avenue SW., Renton, WA 98057-3356; phone: 425-917-6577; fax: 425-917-6590; email: Berhane.Alazar@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 767-53A0209, Revision 1, dated July 27, 2011.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may review copies of the referenced service information at the FAA, Transport Airplane Directorate, 1601 Lind Avenue SW., Renton, WA. For information on the availability of this material at the FAA, call 425-227-1221.

(5) You may also review copies of the service information that is incorporated by reference at the National Archives and Records Administration (NARA). For information on the availability of this material at NARA, call 202-741-6030, or go to: http://www.archives.gov/federal-register/cfr/ibr-locations.html.

Issued in Renton, Washington, on October 31, 2012.
Ali Bahrami,
Manager, Transport Airplane Directorate, Aircraft Certification Service.

[FR Doc. 2012-27344 Filed 11-20-12; 8:45 am]

BILLING CODE 4910-13-P